DEPARTMENT OF ENERGY

Federal Energy Regulatory Commission

[Project No. 2446-052]

STS Hydropower, LLC; Notice of Application Tendered for Filing With the Commission and Soliciting Additional Study Requests and Establishing Procedural Schedule for Licensing and Deadline for Submission of Final Amendments

Take notice that the following hydroelectric application has been filed with the Commission and is available for public inspection.

a. Type of Application: New Major License.

b. Project No.: 2446-052.

c. Date filed: August 30, 2022.

d. Applicant: STS Hydropower, LLC (STS Hydropower).

e. Name of Project: Dixon Hydroelectric Project (Dixon Project).

f. Location: The project is located on the Rock River in the towns of Dixon and Grand Tour and the city of Dixon in Lee and Ogle Counties, Illinois. The project does not include any federal lands.

g. Filed Pursuant to: Federal Power Act 16 U.S.C. 791(a)-825(r).

h. Applicant Contact: Mr. David Fox, Senior Director of Regulatory Affairs, Eagle Creek RE Management, LLC, 7315 Wisconsin Avenue, Suite 1100W, Bethesda, Maryland 20814, (240) 724-8765, david.fox@eaglecreekre.com.

i. FERC Contact: Laura Washington (202) 502-6072, Laura.Washington@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 29, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2446-052.

m. This application is not ready for environmental analysis at this time.

n. The Dixon Project consists of the following existing facilities: (1) a 305.92-acre reservoir; (2) a 610-foot-long the concrete overflow dam; (3) a forebay; (4) transmission equipment is composed of generators connected to a 2.3-kilovolt bus; (5) a tailrace; and (6) a powerhouse containing five generating units with a total installed capacity of 3 megawatts.

The Dixon Project is currently operated in a run-of-river mode and generates an annual average of approximately 14,995 megawatt hours. STS Hydropower proposes to continue operating the project as a run-of-river facility and does not propose any new construction to the project.

o. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural schedule: The application will be processed according to the following preliminary schedule. Revisions to the schedule will be made as appropriate.

Milestone | Target date
Issue Deficiency Letter (if necessary) | December 2022.
Request Additional Information | December 2022.
Issue Scoping Document 1 for comments | June 2023.
Issue Scoping Document 2 (if necessary) | October 2023.
Issue Notice of Ready for Environmental Analysis | October 2023.

Final amendments to the application must be filed with the Commission no later than 30 days from the issuance date of the notice of ready for environmental analysis.

Dated: September 9, 2022.
Kimberly D. Bose,
Secretary.

[FR Doc. 2022-19979 Filed 9-14-22; 8:45 am]

BILLING CODE 6717-01-P